DEPARTMENT OF COMMERCE

National Oceanic and Atmospheric Administration

[RTID 0648-XD832]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of the Socio-Economic Panel (SEP) on April 15 and 16, 2024. The Scientific and Statistical Committee (SSC) will meet on April 16-18, 2024.

DATES: The SEP meeting will be held from 1:30 p.m. until 5 p.m., EDT on April 15; and from 8:30 a.m. until 12 p.m. on April 16, 2024. The SSC meeting will be held from 1:30 p.m. until 5 p.m., EDT on April 16; from 8:30 a.m. until 5 p.m. on April 17; and from 8:30 a.m. until 12 p.m. on April 18, 2024.

ADDRESSES:

Meeting address: The meetings will be held at the Crowne Plaza, 4831 Tanger Outlet Blvd., North Charleston, SC 29418; phone: (843) 744-4422.

The meetings will also be available via webinar. Registration is required. Webinar registration, an online public comment form, and briefing book materials will be available two weeks prior to the meetings at: https://safmc.net/scientific-and-statistical-committee-meeting/.

Council address: South Atlantic Fishery Management Council, 4055 Faber Place Drive, Suite 201, N. Charleston, SC 29405.

FOR FURTHER INFORMATION CONTACT: Dr. Judd Curtis, Quantitative Fishery Scientist, SAFMC; phone: (843) 302-8441 or toll free: (866) SAFMC-10; fax: (843) 769-4520; email: judd.curtis@safmc.net.

SUPPLEMENTARY INFORMATION:

SSC Socio-Economic Panel

The SEP meeting agenda includes updates on Council active amendments, the Council's Citizen Science program, and the Best Fishing Practices Outreach and Evaluation Workshop. The SEP will provide feedback on upcoming stakeholder engagement meetings, social and economic metrics used in Stock Assessment and Fisheries Evaluation (SAFE) reports, and social and economic information to include in the Snapper Grouper Management Strategy Evaluation (MSE). They will also discuss improving incorporation of Equity and Environmental Justice concerns into Council initiatives, the National Academy of Sciences report on Assessing Equity in the Distribution of Fisheries Management Benefits, and other business as necessary.

Scientific and Statistical Committee

The SSC meeting agenda includes updates on the Florida State Reef Fish Survey, South Atlantic Red Snapper Research Program, and Southeast Reef Fish Survey Trends Report. It will also include updates from the Southeast Fishery Science Center (SEFSC) Minimizing Red Snapper Discards Publication, Low Recruitment Workgroup, Commercial Discard Logbook Data, and Precision Threshold Workgroup. The SSC will review Terms of Reference and Scopes of Work for upcoming Southeast Data, Assessment, and Review (SEDAR) projects, and discuss other business as necessary.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: March 25, 2024.
Rey Israel Marquez,
Acting Deputy Director, Office of Sustainable Fisheries, National Marine Fisheries Service.

[FR Doc. 2024-06649 Filed 3-27-24; 8:45 am]

BILLING CODE 3510-22-P